OFFICE OF SCIENCE AND TECHNOLOGY POLICY

Meeting of the President's Council of Advisors on Science and Technology

ACTION: Emergency notice of public advisory committee meeting.

SUMMARY: This notice sets forth the schedule and summary agenda for a meeting of the President's Council of Advisors on Science and Technology (PCAST), and describes the functions of the Council. Notice of this meeting is required under the Federal Advisory Committee Act (FACA).

Dates and Place: August 5, 2002, at 1 pm. This meeting will take place via a telephone conference call. In light of the short notice of this meeting, OSTP will undertake to make this meeting available to the public through the following call-in number: 1-800-260-0712, access code: 647402. Any interested member of the public may call this number and listen to the meeting. To ensure the agency secures an appropriate number of lines, however, such persons are asked to register with OSTP by calling Cynthia Chase at (202) 456-6010 by 4 pm on Friday, August 2, 2002.

Type of Meeting: Open.

Proposed Schedule and Agenda: The President's Council of Advisors on Science and Technology (PCAST) is tentatively scheduled to meet in open session on Monday, August 5, 2002, at approximately 1 pm, to discuss (and, pending the discussion, approve) a draft report to the President on maximizing the contribution of science and technology within the new Department of Homeland Security (DHS). This session will end at approximately 1:30 pm.

Public Comments: Written public comments are welcome at any time prior to the meeting. Please fax your comments to (202) 456-6021. In light of the compressed notice period for this meeting, public comments are also welcome for an additional three days after the meeting (i.e., up to close of business Thursday, August 8, 2002). Please fax such comments to the same fax number noted above. The transcript of the meeting will be posted on the PCAST web site as soon as possible following the meeting. Moreover, any person may listen to a recording of the meeting on Tuesday, August 6, 2002, from 8 am to 5 pm, by calling 1-800-475-6701, access code: 647402.

Reason for Emergency Notice: Pursuant to 41 CFR Part 102-3.150(b), less than 15 days notice is being given for this meeting because of the exigencies involved in providing timely and relevant advice to the President on the matters to be discussed. Legislation to establish the DHS is moving extremely swiftly through Congress, and negotiations between Congress and the Administration on the structure of the new Department (including the DHS research and development enterprise) have already begun. In light of these exceptional circumstances, regular notice and meeting procedures would prevent PCAST from rendering advice pertinent to these current events in a timely fashion.

FOR FURTHER INFORMATION: Information on this meeting will be published on the PCAST Web site at: http://www.ostp.gov/PCAST/pcast.html. The draft report to be discussed during the call will be posted on this web site at the earliest possible opportunity. Any updates on the scheduling of the conference call will also be posted. For additional information, please call Cynthia Chase at (202) 456-6010.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Barbara Ann Ferguson,
Assistant Director for Budget and Administration, Office of Science and Technology Policy.

[FR Doc. 02-19445 Filed 7-30-02; 8:45 am]

BILLING CODE 3170-01-P